DEPARTMENT OF EDUCATION

Notice of Proposed Information Collection Requests

AGENCY: Department of Education.

ACTION: Notice of proposed information collection requests.

SUMMARY: The IC Clearance Official, Regulatory Information Management Services, Office of Management, invites comments on the proposed information collection requests as required by the Paperwork Reduction Act of 1995.

DATES: An emergency review has been requested in accordance with the Act (44 U.S.C. Chapter 3507(j)), since public harm is reasonably likely to result if normal clearance procedures are followed. Approval by the Office of Management and Budget (OMB) has been requested by December 22, 2008.

ADDRESSES: Written comments regarding the emergency review should be addressed to the Office of Information and Regulatory Affairs, Attention: Bridget C. Dooling, Desk Officer, Department of Education, Office of Management and Budget, 725 17th Street, NW., Room 10222, New Executive Office Building, Washington, DC 20503 or faxed to (202) 395-6974.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The IC Clearance Official, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner, (3) is the estimate of burden accurate; (4) how might the Department enhance the quality, utility, and clarity of the information to be collected, and (5) how might the Department minimize the burden of this collection on respondents, including through the use of information technology.

Dated: November 21, 2008.
Angela C. Arrington,
IC Clearance Official, Regulatory Information Management Services, Office of Management.

Office of Elementary and Secondary Education

Type of Review: New.

Title: Emergency Clearance of Homeless Education Disaster Assistance Application.

Abstract: The Consolidated Security, Disaster Assistance, and Continuing Appropriations Act, 2009 provides 15 million dollars to ED to award to local educational agencies (LEAs) that had an increase in children and youth made homeless by Federally-declared major natural disasters in calendar year 2008 to partially compensate them for serving the educational and related needs of all homeless students in their district consistent with section 723(d) of the McKinney-Vento Homeless Assistance Act (McKinney-Vento Act). The information is collected in the form of a single electronic application submitted by LEAs. ED plans to award grants to applicants (LEAs and consortia of LEAs) based on verifiable counts of increases in homeless student enrollment in kindergarten through grade twelve directly tied to natural disasters in calendar year 2008.

Additional Information: The Homeless Education Disaster Assistance program (HEDA) was established in the “Consolidated Security, Disaster Assistance, and Continuing Appropriations Act, 2009,” which the President signed into law on September 30, 2008 (Pub. L. 110-329) and which stipulates that ED should award HEDA funds to LEAs within 120 days. The Department is requesting emergency processing with a requested approval date of December 22, 2008. Using the regular clearance process would put ED well past the 120-day mark for awarding the HEDA funds that is specified in the Act, which would clearly go against Congress's intent. In sum, not approving this emergency request would cause harm to many LEAs and the homeless students they serve and would delay ED's ability to award the funds well passed 120 days. ED intends to publish the Federal Register application notice on or about January 5, 2009 with an application deadline on February 4, 2009.

Frequency: One time.

Affected Public: State, local, or Tribal Gov't, SEAs or LEAs.

Reporting and Recordkeeping Hour Burden:

Responses: 500.

Burden Hours: 10,000.

Requests for copies of the proposed information collection request may be accessed from http://edicsweb.ed.gov, by selecting the “Browse Pending Collections” link and by clicking on link number 3914. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-28117 Filed 11-25-08; 8:45 am]

BILLING CODE 4000-01-P